DEPARTMENT OF HEALTH AND HUMAN SERVICES

Public Health Service

National Toxicology Program (NTP) Board of Scientific Counselors Technical Reports Review Subcommittee Meeting; Review of Draft NTP Technical Reports; Correction

The table included in the Federal Register notice (68 FR, No. 232 pp. 67696-67697) published December 3, 2003, had errors in the information provided in the column headed Route & Exposure Levels for 2,3,7,8-Tetrachlorodibenzo-p-dioxin (TCDD), 3,3',4,4',5-Pentachlorobiphenyl (PCB 126), 2,3,4,7,8-Pentachlorodibenzo-furan (PeCDF) and the Mixture of PCB 126, TCDD, and PeCDF. The corrected information is provided below.

Chemical/CAS No. | Report No. | Route & exposure levels
2,3,7,8-Tetrachlorodibenzo-p-dioxin (TCDD)/1746-01-6 | TR 521 | Two-year study; administered by gavage at 3-100 ng/kg to female Sprague-Dawley rats.
3,3',4,4',5-Pentachlorobiphenyl (PCB 126)/57465-28-8 | TR 520 | Two-year study; administered by gavage at 30-1000 ng/kg to female Sprague-Dawley rats.
2,3,4,7,8-Pentachlorodibenzo-furan (PeCDF)/57117-31-4 | TR 525 | Two-year study; administered by gavage at 6-200 ng/kg to female Sprague-Dawley rats.
Mixture of PCB 126, TCDD, and PeCDF | TR 526 | Two-year study; administered by gavage at 10-100 ng TCDD “equivalents”/kg to female Sprague-Dawley.

Dated: December 19, 2003.
Samuel Wilson,
Deputy Director, National Toxicology Program.

[FR Doc. 04-100 Filed 1-2-04; 8:45 am]

BILLING CODE 4140-01-U